DEPARTMENT OF COMMERCE

National Telecommunications and Information Administration

NTIA 2019 Spectrum Policy Symposium

AGENCY: National Telecommunications and Information Administration, U.S. Department of Commerce.

ACTION: Notice of public meeting.

SUMMARY: The National Telecommunications and Information Administration (NTIA), U.S. Department of Commerce, will host a symposium on September 10, 2019, focusing on the development and implementation of a National Spectrum Strategy, pursuant to the Presidential Memorandum, released on October 25, 2018, on “Developing a Sustainable Spectrum Strategy for America's Future.”

DATES: The symposium will be held on September 10, 2019, from 8:30 a.m. to 12:30 p.m. Eastern Daylight Time (EDT).

ADDRESSES: The symposium will be held at the National Press Club, 529 14th St. NW, Washington, DC 20045.

FOR FURTHER INFORMATION CONTACT: John Alden, Telecommunications Specialist, Office of Spectrum Management, NTIA, at (202) 482-8046 or spectrumsymposium@ntia.gov. Please direct media inquiries to NTIA's Office of Public Affairs, (202) 482-7002; email: press@ntia.gov.

SUPPLEMENTARY INFORMATION: NTIA serves as the President's principal adviser on telecommunications policies pertaining to the Nation's economic and technological advancement and establishes policies concerning use of the radio spectrum by federal agencies. NTIA is hosting a symposium that will focus on implementing and maintaining a sustainable national spectrum strategy that will enable the United States to strengthen its global leadership role in the introduction of wireless telecommunications technologies, services, and innovation, while also supporting the expansion of existing technologies and the nation's homeland security, national defense, and other critical government missions.

Prior to the event, NTIA will post registration information, a detailed agenda, any updates, and other relevant information at: https://www.ntia.gov/other-publication/2019/2019-ntia-spectrum-policy-symposium. The symposium is free and open to the public and members of the press on a first come, first served basis. Pre-registration is requested, but not required, due to limited seating capacity. NTIA asks registrants to provide their first and last names, email addresses, and their organization (optional) for both registration purposes and to receive updates on the symposium.

The meeting will be physically accessible to people with disabilities. Individuals requiring accommodations, such as sign language interpretation or other ancillary aids, should notify Mr. Alden at the contact information listed above at least ten (10) business days before the event.

Dated: August 8, 2019.
Kathy D. Smith,
Chief Counsel, National Telecommunications and Information Administration.

[FR Doc. 2019-17331 Filed 8-12-19; 8:45 am]

BILLING CODE 3510-60-P